DEPARTMENT OF TRANSPORTATION

Federal Railroad Administration

49 CFR Part 218

[Docket No. FRA-2014-0033, Notice No. 2]

RIN 2130-AC48

Train Crew Staffing

AGENCY: Federal Railroad Administration (FRA), Department of Transportation (DOT).

ACTION: Proposed rulemaking; extension of comment period.

SUMMARY: On March 15, 2016, FRA published a Notice of Proposed Rulemaking (NPRM) that would require establishing minimum requirements for the size of train crew staffs depending on the type of operation. FRA is announcing an extension to the comment period and that it will schedule a public hearing in a future notice to provide interested persons an opportunity to comment on the proposal and to discuss further development of the regulation. When FRA schedules the public hearing in a future notice, it will also reopen the comment period for this proceeding to allow additional time for interested parties to submit written comments in response to views or information provided at the public hearing.

DATES: (1) Written Comments: FRA must receive written comments on the proposed rule by June 15, 2016. FRA may consider comments received after that date if possible without incurring additional expense or delay.

(2) FRA received a timely request for a public hearing and will publish a supplemental notice in the Federal Register to inform interested parties of the date, time, and location of that hearing when it is scheduled. When FRA issues the supplemental notice, it will also reopen the comment period for this proceeding to allow additional time for interested parties to submit written comments in response to views or information provided at the public hearing.

ADDRESSES: You may submit comments identified by the docket number FRA-2014-0033 by any of the following methods:

• Online: Comments should be filed at the Federal eRulemaking Portal, http://www.regulations.gov. Follow the online instructions for submitting comments.

• Fax: 202-493-2251.

• Mail: Docket Management Facility, U.S. Department of Transportation, 1200 New Jersey Avenue SE., W12-140, Washington, DC 20590.

• Hand Delivery: Room W12-140 on the Ground level of the West Building, 1200 New Jersey Avenue SE., Washington, DC 20590 between 9 a.m. and 5 p.m., Monday through Friday, except Federal Holidays.

Instructions: All submissions must include the agency name, docket name, and docket number or Regulatory Identification Number (RIN) for this rulemaking (RIN 2130-AC48). Note that FRA will post all comments received without change to http://www.regulations.gov, including any personal information provided. Please see the Privacy Act heading in the “Supplementary Information” section of this document for Privacy Act information about any submitted petitions, comments, or materials.

Docket: For access to the docket to read background documents or comments received, go to http://www.regulations.gov at any time or to the U.S. Department of Transportation, Docket Operations, M-30, West Building, Ground Floor, Room W12-140, 1200 New Jersey Avenue SE., Washington, DC 20590, between 9 a.m. and 5 p.m., Monday through Friday, except Federal Holidays.

FOR FURTHER INFORMATION CONTACT: Joseph D. Riley, Railroad Safety Specialist (OP)-Operating Crew Certification, U.S. Department of Transportation, Federal Railroad Administration, Mail Stop-25, Room W33-412, 1200 New Jersey Avenue SE., Washington, DC 20590, (202) 493-6318, or Alan H. Nagler, Senior Trial Attorney, U.S. Department of Transportation, Federal Railroad Administration, Office of Chief Counsel, RCC-10, Mail Stop 10, West Building 3rd Floor, Room W31-309, 1200 New Jersey Avenue SE., Washington, DC 20590, (202) 493-6038).

SUPPLEMENTARY INFORMATION:

Privacy Act

Anyone can search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477). In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Issued in Washington, DC, on May 11, 2016, under the authority set forth in 49 CFR 1.89(b).
Sarah E. Feinberg,
Administrator.

[FR Doc. 2016-11491 Filed 5-13-16; 8:45 am]

BILLING CODE 4910-06-P